INTERNATIONAL TRADE COMMISSION

[Investigation No. 701-TA-703 (Final)]

Glass Wine Bottles From China

Determination

On the basis of the record ¹ developed in the subject investigation, the United States International Trade Commission (“Commission”) determines, pursuant to the Tariff Act of 1930 (“the Act”), that an industry in the United States is not materially injured or threatened with material injury by reason of imports of glass wine bottles from China, provided for in subheading 7010.90.50 of the Harmonized Tariff Schedule of the United States, that have been found by the U.S. Department of Commerce (“Commerce”) to be subsidized by the government of China.²

¹ The record is defined in § 207.2(f) of the Commission's Rules of Practice and Procedure (19 CFR 207.2(f)).

² 89 FR 68395 (August 26, 2024).

Background

The Commission instituted this investigation effective December 29, 2023, following receipt of petitions filed with the Commission and Commerce by the U.S. Glass Producers Coalition, which is comprised of Ardagh Glass Inc. (Indianapolis, Indiana), and the United Steel, Paper and Forestry, Rubber, Manufacturing, Energy, Allied Industrial and Service Workers International Union (Pittsburgh, Pennsylvania). The Commission scheduled the final phase of the investigation following notification of a preliminary determination by Commerce that imports of glass wine bottles from China were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register on June 12, 2024 (89 FR 49901).³ The Commission conducted its hearing on August 14, 2024. All persons who requested the opportunity were permitted to participate.

³ The Commission also published a notice in the Federal Register of a revision to its schedule on August 5, 2024 (89 FR 63445).

The Commission made this determination pursuant to § 705(b) of the Act (19 U.S.C. 1671d(b)). It completed and filed its determination in this investigation on October 9, 2024. The views of the Commission are contained in USITC Publication 5550 (October 2024), entitled Glass Wine Bottles from China: Investigation No. 701-TA-703 (Final).

By order of the Commission.
Issued: October 9, 2024.
Lisa Barton,
Secretary to the Commission.

[FR Doc. 2024-23798 Filed 10-15-24; 8:45 am]

BILLING CODE 7020-02-P